DEPARTMENT OF AGRICULTURE

Farm Service Agency

7 CFR Part 717

RIN 0560-AH64

Removal of Obsolete Regulations; Holding of Referenda

AGENCY: Farm Service Agency, USDA.

ACTION: Final rule.

SUMMARY: This action removes regulations that have been rendered obsolete by expiration of their statutory authority and the ending of the programs they governed. There are no impacts on past or current program operations.

EFFECTIVE DATE: August 24, 2006.

FOR FURTHER INFORMATION CONTACT: Phillip Elder, Regulatory Review Group, Farm Service Agency, USDA, STOP 0540, 1400 Independence Avenue, SW., Washington, DC 20250-0540; Telephone: (202) 205-5851; e-mail: Phillip.Elder@usda.gov.

SUPPLEMENTARY INFORMATION:

Discussion of Final Rule

This rule removes regulations at 7 CFR Part 717, Holding of Referenda. That regulation has been rendered obsolete by repeal of its statutory authority and the ending of it applicable programs. Part 717 was authorized by the Agricultural Adjustment Act of 1938 (1938 Act), as amended, and was applicable to all referenda held pursuant to that Act. This Act required the Secretary of Agriculture to establish national marketing quotas for flue-cured, burley and other types of tobacco in years where producers of such tobacco approved of having a national marketing quota (see 7 U.S.C. 1312 et seq. (2000)). The quotas for the respective crops were approved or disapproved by such producers in a referendum conducted as provided in part 717. Sections 611 through 613 of the American Jobs Creation Act of 2004 (Pub. L. 108-357; the 2004 Act) repealed the tobacco marketing quota and related price support programs authorized by Title III of the 1938 Act and the Agricultural Act of 1949. Thus, the Farm Service Agency has no authority for conducting producer referenda and 7 CFR part 717 is obsolete.

Executive Order 12866

This rule related to internal agency management. Therefore, pursuant to 5 U.S.C. 553, notice of proposed rulemaking and opportunity for comment are not required, and this rule may be made effective less than 30 days after publication in the Federal Register. Further, because this rule relates to internal agency management, it is exempt from the provisions of Executive Order Nos. 12291 and 12866. Finally, this action is not a rule as defined by the Regulatory Flexibility Act, 5 U.S.C. 601, et seq., and is therefore exempt from the provisions of that Act. Accordingly, as authorized by section 808 of the Small Business Regulatory Enforcement Fairness Act of 1996, 5 U.S.C. 808, this rule may be made effective upon publication.

Paperwork Reduction Act

This rule does not affect any information collections.

List of Subjects in 7 CFR Part 717

Agricultural Commodities, Allotments, Price support programs, Quotas, Tobacco.

PART 717—[REMOVED]

Accordingly, under the authority of 5 U.S.C. 301, 7 CFR Chapter VII is amended by removing part 717.

Signed at Washington, DC on August 9, 2006.
Teresa C. Lasseter,
Administrator, Farm Service Agency.

[FR Doc. 06-7159 Filed 8-23-06; 8:45 am]

BILLING CODE 3410-05-M